Title 3—

The President

Proclamation 7681 of May 22, 2003

Prayer for Peace, Memorial Day, 2003

By the President of the United States of America

A Proclamation

On Memorial Day, America undertakes its solemn duty to remember the sacred list of brave Americans who have sacrificed their lives for the cause of freedom and the security of our Nation. By honoring these proud Soldiers, Sailors, Airmen, Marines, and Coast Guardsmen lost throughout our country's history, we renew our commitment to upholding the democratic ideals they fought and died to preserve.

Each Memorial Day, we pray for peace throughout the world, remembering what was gained and what was lost during times of war. From the bravery of the men at Valley Forge, to the daring of Normandy, the courage of Iwo Jima, and the steady resolve in Afghanistan and Iraq, our men and women in uniform have won for us every hour that we live in freedom. During this year's observance, we particularly recognize the courageous spirit of the men and women in our Nation's Armed Forces who are working with our coalition partners to restore civil order, provide critical humanitarian aid, and renew Afghanistan and Iraq. As we honor those who have served and have been lost, we better understand the meaning of patriotism and citizenship, and we pledge that their sacrifices will not be in vain.

Throughout our history, the decency, character, and idealism of our military troops have turned enemies into allies and oppression into hope. In all our victories, American soldiers have fought to liberate, not to conquer; and today, the United States joins with a strong coalition in the noble cause of liberty and peace for the world. On this day, America honors her own, but we also recognize the shared victories and hardships of our allied forces who have served and fallen alongside our troops.

The noble sacrifices of our service men and women will not be forgotten. Every name, every life is a loss to our military, to our Nation, and to their loved ones. Americans stand with the families who grieve, and we share in their great sorrow and great pride. There will be no homecoming on this Earth for those lost in battle, but we know that this reunion will one day come.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 26, 2003, as a day of prayer for permanent peace, and I designate the hour beginning in each locality at 11:00 a.m. of that day as a time to unite in prayer. I also ask all Americans to observe the National Moment of Remembrance beginning at 3:00 p.m. local time on Memorial Day. I urge the press, radio, television, and all other media to participate in these observances.

I also request the Governors of the United States and the Commonwealth of Puerto Rico, and the appropriate officials of all units of government, to direct that the flag be flown at half-staff until noon on this Memorial Day on all buildings, grounds, and naval vessels throughout the United States, and in all areas under its jurisdiction and control. I also request the people of the United States to display the flag at half-staff from their homes for the customary forenoon period.

IN WITNESS WHEREOF, I have hereunto set my hand this twenty-second day of May, in the year of our Lord two thousand three, and of the Independence of the United States of America the two hundred and twenty-seventh.

B

[FR Doc. 03-13508

Filed 5-27-03; 8:48 am]

Billing code 3195-01-P